DEPARTMENT OF HOMELAND SECURITY

Federal Emergency Management Agency

44 CFR Part 67

[Docket ID FEMA-2011-0002; Internal Agency Docket Nos. FEMA-B-7749 and FEMA-B-7775]

Proposed Flood Elevation Determinations; Correction

AGENCY: Federal Emergency Management Agency, DHS.

ACTION: Proposed rule; correction.

SUMMARY: On December 6, 2007, and on May 8, 2008, FEMA published in the Federal Register proposed rules that contained erroneous tables affecting Washington County, Oregon, and Incorporated Areas. This notice provides corrections to those tables, to be used in lieu of the information published at 72 FR 68769 and 73 FR 26060. The table provided in this notice represents the flooding sources, location of referenced elevations, effective and modified elevations, and communities affected for Washington County, Oregon, and Incorporated Areas. Specifically, it addresses the following flooding sources: Beal Creek, Beaverton Creek, Bethany Creek, Bronson Creek, Butternut Creek, Cedar Creek, Cedar Mill Creek, Cedar Mill Creek—North Overflow, Cedar Mill Creek—South Overflow, Cedar Mill Creek—Upper North Overflow, Celebrity Creek, Chicken Creek, Chicken Creek—West Tributary, Council Creek, Dairy Creek, Dawson Creek, Deer Creek, Erickson Creek, Fanno Creek, Glencoe Swale, Golf Creek, Gordon Creek, Hall Creek, Hall Creek—106th Tributary, Hall Creek South Fork, Hedges Creek, Holcomb Creek, McKay Creek, North Fork Hall Creek, North Johnson Creek, North Johnson Creek—East Tributary, North Johnson Creek—North Tributary, Rock Creek North, Rock Creek South, South Johnson Creek, Storey Creek, Storey Creek—East Tributary, Storey Creek—Middle Tributary, Tualatin River, Tualatin River—Golf Overflow, Tualatin River—LaFollett Overflow, Tualatin River Overflow to Nyberg Slough, Turner Creek, Waible Creek, Waible Creek—North Tributary, Waible Creek—South Tributary, West Fork Dairy Creek, and Willow Creek.

DATES: Comments are to be submitted on or before July 9, 2012.

ADDRESSES: You may submit comments, identified by Docket Nos. FEMA-B-7749 and FEMA-B-7775, to Luis Rodriguez, Chief, Engineering Management Branch, Federal Insurance and Mitigation Administration, Federal Emergency Management Agency, 500 C Street SW., Washington, DC 20472, (202) 646-4064 or (email) Luis.Rodriguez3@fema.dhs.gov.

FOR FURTHER INFORMATION CONTACT: Luis Rodriguez, Chief, Engineering Management Branch, Federal Insurance and Mitigation Administration, Federal Emergency Management Agency, 500 C Street SW., Washington, DC 20472, (202) 646-4064 or (email) Luis.Rodriguez3@fema.dhs.gov.

SUPPLEMENTARY INFORMATION: The Federal Emergency Management Agency (FEMA) publishes proposed determinations of Base (1% annual-chance) Flood Elevations (BFEs) and modified BFEs for communities participating in the National Flood Insurance Program (NFIP), in accordance with section 110 of the Flood Disaster Protection Act of 1973, 42 U.S.C. 4104, and 44 CFR 67.4(a).

These proposed BFEs and modified BFEs, together with the floodplain management criteria required by 44 CFR 60.3, are minimum requirements. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Corrections

In the proposed rule published at 72 FR 68769, in the December 6, 2007, issue of the Federal Register, FEMA published a table under the authority of 44 CFR 67.4. The table, entitled “Washington County, Oregon, and Incorporated Areas,” addressed the flooding sources Beal Creek, Beaverton Creek, Bethany Creek, Bronson Creek, Butternut Creek, Cedar Creek, Cedar Mill Creek, Cedar Mill Creek—North Overflow, Cedar Mill Creek—South Overflow, Cedar Mill Creek—Upper North Overflow, Celebrity Creek, Chicken Creek, Chicken Creek—West Tributary, Council Creek, Dairy Creek, Dawson Creek, Deer Creek, Erickson Creek, Glencoe Swale, Golf Creek, Gordon Creek, Hall Center Creek, Hall Creek, Hall Creek—106th Tributary, Hall Creek—South Fork, Hedges Creek, Holcomb Creek, McKay Creek, North Johnson Creek, North Johnson Creek—East Tributary, North Johnson Creek—North Tributary, Rock Creek North, Rock Creek South, South Johnson Creek, Storey Creek, Storey Creek—East Tributary, Storey Creek—Middle Tributary, Tualatin River, Tualatin River Overflow to Nyberg Slough, Turner Creek, Waible Gulch, Waible Gulch—North Tributary, Waible Gulch—South Tributary, and Willow Creek. In the proposed rule published at 73 FR 26060, in the May 8, 2008, issue of the Federal Register, FEMA published a table under the authority of 44 CFR 67.4. The table, entitled “Washington County, Oregon, and Incorporated Areas” addressed the flooding sources Dairy Creek and West Fork Dairy Creek. Both tables contained inaccurate information as to the location of referenced elevation, effective and modified elevation in feet, and/or communities affected for those flooding sources. In addition, they did not include the following flooding sources: Fanno Creek, Tualatin River—Golf Overflow, and Tualatin River—LaFollett Overflow. In this notice, FEMA is publishing a table containing the accurate information, to address these prior errors. The information provided below should be used in lieu of that previously published for Washington County, Oregon, and Incorporated Areas.

Flooding source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Washington County, Oregon, and Incorporated Areas
Beal Creek | Approximately 750 feet upstream of State Highway 47 | None | +170 | City of Forest Grove, Unincorporated Areas of Washington County.
| Approximately 765 feet upstream of Main Street | None | +172
Beaverton Creek | At the upstream side of Southwest 197th Avenue | +158 | +160 | City of Beaverton, City of Hillsboro, Unincorporated Areas of Washington County.
| Approximately 870 feet upstream of Southwest Laurelwood Avenue | None | +267
Bethany Creek | Approximately 0.21 mile downstream of Northwest 185th Avenue | +173 | +174 | Unincorporated Areas of Washington County.
| Approximately 0.58 mile upstream of Northwest West Union Road | None | +188
Bronson Creek | Approximately 65 feet downstream of Northwest Anzalone Drive | +155 | +158 | City of Beaverton, City of Hillsboro, Unincorporated Areas of Washington County.
| Approximately 1.0 mile upstream of Northwest West Union Road | +236 | +238
Butternut Creek | Approximately 940 feet downstream of Southwest 209th Avenue | +164 | +165 | Unincorporated Areas of Washington County.
| Approximately 80 feet upstream of Southwest Farmington Road | +199 | +200
Cedar Creek | Approximately 0.4 mile downstream of Southwest Edy Road | +144 | +145 | City of Sherwood, Unincorporated Areas of Washington County.
| Approximately 560 feet upstream of Southwest Sunset Boulevard | None | +176
Cedar Mill Creek | Approximately 0.6 mile downstream of Portland & Western Railroad | +172 | +171 | City of Beaverton, Unincorporated Areas of Washington County.
| Approximately 90 feet upstream of Northwest 113th Avenue | None | +300
Cedar Mill Creek—North Overflow | At the Cedar Mill Creek confluence | None | +207 | City of Beaverton, Unincorporated Areas of Washington County.
| Approximately 250 feet upstream of Southwest 131st Avenue | None | +213
Cedar Mill Creek—South Overflow | At the Cedar Mill Creek confluence | None | +195 | City of Beaverton, Unincorporated Areas of Washington County.
| At the upstream side of Southwest Evergreen Street | None | +205
Cedar Mill Creek—Upper North Overflow | At the Cedar Mill Creek-North Overflow confluence | None | +212 | City of Beaverton, Unincorporated Areas of Washington County.
| Approximately 550 feet upstream of the Cedar Mill Creek—North Overflow confluence | None | +214
Celebrity Creek | At the Butternut Creek confluence | None | +176 | Unincorporated Areas of Washington County.
| Approximately 65 feet downstream of Southwest Farmington Road | None | +212
Chicken Creek | Approximately 0.8 mile downstream of Southwest Roy Rogers Road | None | +135 | City of Sherwood, Unincorporated Areas of Washington County.
| At the upstream side of Southwest Edy Road | None | +157
Chicken Creek—West Tributary | At the upstream side of Southwest Elwert Road | None | +151 | Unincorporated Areas of Washington County.
| Approximately 0.3 mile upstream of Southwest Elwert Road | None | +156
Council Creek | Approximately 0.25 mile downstream of Northwest Hobbs Road | +155 | +156 | Unincorporated Areas of Washington County.
| Approximately 0.39 mile downstream of Beal Road | +167 | +166
Dairy Creek | At the Tualatin River confluence | +151 | +152 | City of Hillsboro, Unincorporated Areas of Washington County.
| Approximately 125 feet upstream of Northwest Susbauer Road | +158 | +159
Dawson Creek | Approximately 317 feet upstream of Northwest Brookwood Avenue | +150 | +151 | City of Hillsboro, Unincorporated Areas of Washington County.
| Approximately 0.3 mile upstream of Northwest Shute Road | None | +184
Deer Creek | Approximately 475 feet downstream of Northwest Kahneeta drive | None | +176 | Unincorporated Areas of Washington County.
| Approximately 90 feet upstream of Northwest 174th Avenue | None | +202
Erickson Creek | Approximately 211 feet upstream of Southwest 144th Avenue | +174 | +175 | City of Beaverton.
| Approximately 322 feet upstream of Southwest 10th Street | +202 | +203
Fanno Creek | At the Tualatin River confluence | +129 | +131 | City of Durham, City of Tigard.
| Approximately 0.3 mile downstream of Southwest Durham Road | +130 | +131
Glencoe Swale | Approximately 980 feet upstream of the McKay Creek confluence | +154 | +156 | City of Hillsboro, Unincorporated Areas of Washington County.
| Approximately 0.5 mile upstream of Northwest Sewell Road | None | +201
Golf Creek | Approximately 390 feet upstream of the Hall Creek confluence | None | +198 | City of Beaverton, Unincorporated Areas of Washington County.
| Approximately 625 feet upstream of 97th Avenue | None | +223
Gordon Creek | Approximately 275 feet upstream of Southwest River Road | None | +146 | City of Hillsboro, Unincorporated Areas of Washington County.
| Approximately 0.25 mile upstream of Southwest 229th Avenue | None | +196
Hall Creek | Approximately 175 feet downstream of the North Fork Hall Creek confluence | +179 | +181 | City of Beaverton, Unincorporated Areas of Washington County.
| At the downstream side of Southwest 87th Avenue | None | +256
Hall Creek—106th Tributary | At the Hall Creek confluence | None | +191 | City of Beaverton, Unincorporated Areas of Washington County.
| Approximately 600 feet upstream of Southwest 106th Avenue | None | +245
Hall Creek South Fork | Approximately 750 feet downstream of Southwest 96th Avenue | None | +213 | City of Beaverton, Unincorporated Areas of Washington County.
| Approximately 150 feet upstream of Southwest 86th Avenue | None | +260
Hedges Creek | At the downstream side of Southwest Boones Ferry Road | None | +129 | City of Tualatin, Unincorporated Areas of Washington County.
| Approximately 0.75 mile upstream of Southwest Teton Avenue | None | +142
Holcomb Creek | Approximately 500 feet upstream of the Rock Creek North confluence | None | +178 | Unincorporated Areas of Washington County.
| Approximately 0.15 mile upstream of Northwest Plastics Drive | None | +211
McKay Creek | At the Dairy Creek confluence | +154 | +156 | City of Hillsboro, Unincorporated Areas of Washington County.
| At the upstream side of Northwest Union Road | +175 | +174
North Fork Hall Creek | At the Hall Creek confluence | +179 | +181 | City of Beaverton, Unincorporated Areas of Washington County.
| Approximately 0.4 mile upstream of Center Street | +181 | +183
North Johnson Creek | At the Cedar Mill Creek confluence | +188 | +187 | City of Beaverton, Unincorporated Areas of Washington County.
| Approximately 0.4 mile upstream of the North Johnson Creek—East Tributary confluence | None | +307
North Johnson Creek—East Tributary | At the North Johnson Creek confluence | None | +249 | Unincorporated Areas of Washington County.
| Approximately 0.4 mile upstream of the North Johnson Creek confluence | None | +327
North Johnson Creek—North Tributary | Approximately 0.24 mile downstream of Northwest 114th Avenue | None | +212 | City of Beaverton, Unincorporated Areas of Washington County.
| Approximately 0.22 mile upstream of Northwest 112th Avenue | None | +343
Rock Creek North | Approximately 0.47 mile downstream of Northwest Union Road | +172 | +174 | Unincorporated Areas of Washington County.
| Approximately 0.75 mile upstream of Old Cornelius Pass Road | None | +247
Rock Creek South | Approximately 750 feet downstream of Southwest Pacific Highway | +133 | +134 | City of Sherwood, Unincorporated Areas of Washington County.
| Approximately 0.32 mile upstream of Portland & Western Railroad | +140 | +139
South Johnson Creek | Approximately 800 feet downstream of Southwest Hart Road | +199 | +205 | City of Beaverton, Unincorporated Areas of Washington County.
| Approximately 160 feet upstream of Southwest Hart Road | None | +219
Storey Creek | Approximately 200 feet upstream of the Waible Creek confluence | None | +164 | Unincorporated Areas of Washington County.
| Approximately 0.80 mile upstream of the Storey Creek—Middle Tributary confluence | None | +197
Storey Creek—East Tributary | At the Storey Creek confluence | None | +173 | Unincorporated Areas of Washington County.
| Approximately 0.35 mile upstream of Northwest Sunset Highway | None | +188
Storey Creek—Middle Tributary | Approximately 870 feet upstream of the Storey Creek confluence | None | +180 | Unincorporated Areas of Washington County.
| At the upstream side of Northwest West Union Road | None | +196
Tualatin River | Approximately 490 feet downstream of the Tualatin River Overflow to Nyberg Slough confluence | +125 | +126 | City of Durham, City of King City, City of Tigard, City of Tualatin, Unincorporated Areas of Washington County.
| Approximately 0.3 mile upstream of Southwest Roy Rogers Road | +134 | +135
Tualatin River | Approximately 1.6 miles downstream of Southwest Golf Course Road | +154 | +153 | City of Cornelius, City of Hillsboro, Unincorporated Areas of Washington County.
| Approximately 0.3 mile downstream of the Gales Creek confluence | +167 | +168
Tualatin River—Golf Overflow | Approximately 150 feet downstream of Southwest Golf Course Road | +155 | +156 | City of Forest Grove, Unincorporated Areas of Washington County.
| Approximately 1.0 mile upstream of Southwest Golf Course Road | +160 | +162
Tualatin River—LaFollett Overflow | Approximately 0.3 mile upstream of Southwest Golf Course Road | +156 | +157 | Unincorporated Areas of Washington County.
| At the downstream side of Southwest LaFollett Road | +157 | +160
Tualatin River Overflow to Nyberg Slough | At the Tualatin River confluence | +125 | +126 | City of Tualatin.
| Approximately 300 feet downstream of the divergence from the Tualatin River | +127 | +129
Turner Creek | Approximately 450 feet downstream of Southeast 32nd Avenue | None | +147 | City of Hillsboro.
| Approximately 0.5 mile upstream of East Main Street | None | +168
Waible Creek | Approximately 0.25 mile upstream of the McKay Creek confluence | None | +160 | Unincorporated Areas of Washington County.
| Approximately 0.25 mile upstream of the Waible Creek—North Tributary confluence | None | +196
Waible Creek—North Tributary | At the Waible Creek confluence | None | +192 | City of Hillsboro, Unincorporated Areas of Washington County.
| At the upstream side of Northwest West Union Road | None | +207
Waible Creek—South Tributary | At the Waible Creek confluence | None | +179 | City of Hillsboro, Unincorporated Areas of Washington County.
| Approximately 90 feet upstream of Northwest Jacobson Road | None | +211
West Fork Dairy Creek | Approximately 0.8 mile upstream of Northwest Wilson River Highway | None | +195 | City of Banks.
| Approximately 0.72 mile downstream of Northwest Banks Road | None | +196
Willow Creek | Approximately 400 feet upstream of the Beaverton Creek confluence | +161 | +162 | City of Beaverton, City of Hillsboro, Unincorporated Areas of Washington County.
| At the upstream side of Northwest 141st Place | None | +239
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
City of Banks
Maps are available for inspection at City Hall, Planning Department, 100 South Main Street, Banks, OR 97106.
City of Beaverton
Maps are available for inspection at City Hall, Community Development Department, 4755 Southwest Griffith Drive, Beaverton, OR 97005.
City of Cornelius
Maps are available for inspection at the Development and Operations Building, Planning Department, 1300 South Kodiak Circle, Cornelius, OR 97113.
City of Durham
Maps are available for inspection at City Hall, 17160 Southwest Upper Boones Ferry Road, Durham, OR 97224.
City of Forest Grove
Maps are available for inspection at City Hall, Planning Department, 1924 Council Street, Forest Grove, OR 97116.
City of Hillsboro
Maps are available for inspection at City Hall, Planning Department, 150 East Main Street, Hillsboro, OR 97123.
City of King City
Maps are available for inspection at City Hall, 15300 Southwest 116th Avenue, King City, OR 97224.
City of Tigard
Maps are available for inspection at City Hall, Planning Department, 13125 Southwest Hall Boulevard, Tigard, OR 97223.
City of Tualatin
Maps are available for inspection at City Hall, Building and Planning Department, 18880 Southwest Martinazzi Avenue, Tualatin, OR 97062.
City of Sherwood
Maps are available for inspection at City Hall, Engineering Department, 22560 Southwest Pine Street, Sherwood, OR 97140.
Unincorporated Areas of Washington County
Maps are available for inspection at the Washington County Public Services Building, Land Use and Transportation Department, 155 North 1st Avenue, Suite 350, Hillsboro, OR 97124.

(Catalog of Federal Domestic Assistance No. 97.022, “Flood Insurance.”)

Dated: March 29, 2012.
Sandra K. Knight,
Deputy Associate Administrator for Mitigation, Department of Homeland Security, Federal Emergency Management Agency.

[FR Doc. 2012-8603 Filed 4-9-12; 8:45 am]

BILLING CODE 9110-12-P